DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 16, 2015.
Roy E. Wright,
Deputy Associate Administrator for Insurance and Mitigation, Department of Homeland Security, Federal Emergency Management Agency.

State and county | Location and case No. | Chief executive officer of community | Community map repository | Effective date of modification | Community No.
Alaska: Fairbanks-North Star Borough, (FEMA Docket No.: B-1465) | Fairbanks-North Star Borough, (14-10-1677P) | The Honorable Luke Hopkins, Mayor, Fairbanks-North Star Borough, 809 Pioneer Road, Fairbanks, AK 99701 | 809 Pioneer Road, Fairbanks, AK 99701 | April 15, 2015 | 025009
Indiana: Lake, (FEMA Docket No.: B-1465) | City of Hammond (15-05-0234P) | The Honorable Thomas M. McDermott, Jr., Mayor, City of Hammond, 5925 Calumet Avenue, Hammond, IN 46320 | 5925 Calumet Avenue, Hammond, IN 46320 | April 1, 2015 | 180134
Iowa: Washington, (FEMA Docket No.: B-1465) | City of Kalona (14-07-2178P) | The Honorable Ken Herington, Mayor, City of Kalona, 511 C Avenue, Kalona, IA 52247 | 511 C Avenue, Kalona, IA 52247 | April 10, 2015 | 190601
Kansas:
Harvey, (FEMA Docket No.: B-1465) | City of Sedgwick (14-07-2492P) | The Honorable Rodney Eggleston, Mayor, City of Sedwick, 511 North Commercial, Sedgwick, KS 67135 | 511 North Commercial, Sedgwick, KS 67135 | April 10, 2015 | 200134
Harvey, (FEMA Docket No.: B-1465) | Unincorporated Areas of Harvey County (14-07-2492P) | The Honorable Ron Krehbiel, 3rd District Commissioner, Harvey County, 800 North Main Street, Newton, KS 67114 | 800 North Main Street, Newton, KS 67114 | April 10, 2015 | 200585
Sedgwick., (FEMA Docket No.: B-1465) | Unincorporated Areas of Sedgwick County (14-07-2492P) | The Honorable James Skelton, 5th District Commissioner Sedgwick County, 525 North Main #320, Wichita, KS 67203 | 525 North Main #320, Wichita, KS 67203 | April 10, 2015 | 200321
Wyandotte, (FEMA Docket No.: B-1465) | City of Kansas City (14-07-2400P) | The Honorable Mark R. Holland, Mayor, City of Kansas City, 701 North 7th Street, Suite 926, Kansas City, KS 66101 | 701 North 7th Street, Suite 926, Kansas City, KS 66101 | April 21, 2015 | 200363
Washington:
Whitman, (FEMA Docket No.: B-1465) | Town of Oakesdale (14-10-0693P) | The Honorable Dennis Palmer, Mayor, Town of Oakesdale, 105 North First Street, Oakesdale, WA 99158 | 105 North First Street, Oakesdale, WA 99158 | April 3, 2015 | 530210
Washington: Whitman, (FEMA Docket No.: B-1465) | Unincorporated Areas of Whitman County (14-10-0693P) | The Honorable Art Swannack, Whitman County District 1 Commissioner, 400 North Main Street, Colfax, WA 99111 | 400 North Main Street, Colfax, WA 99111 | April 3, 2015 | 530205
Wisconsin:
Dane, (FEMA Docket No.: B-1465) | Unincorporated Areas of Dane County (14-05-6985P) | The Honorable Joe Parisi, Executive, Dane County, 210 Martin Luther King Jr. Boulevard, Madison, WI 53703 | 210 Martin Luther King Jr. Boulevard, Madison, WI 53703 | April 16, 2015 | 550077
Dane, (FEMA Docket No.: B-1465) | Village of Cross Plains (14-05-6985P) | The Honorable Pat Andreoni, President, Village Of Cross Plains, 3041 Creekside Way, Cross Plains, WI 53528 | 3041 Creekside Way, Cross Plains, WI 53528 | April 16, 2015 | 550081

[FR Doc. 2015-15813 Filed 6-26-15; 8:45 am]

BILLING CODE 9110-12-P